DEPARTMENT OF COMMERCE

National Institute of Standards and Technology

[Docket No.: 000911256-1111-02]

RIN 0693-ZA40

Small Grants program

AGENCY: National Institute of Standards and Technology, Commerce.

ACTION: Notice.

SUMMARY: On Thursday, January 11, 2001, the National Institute of Standards and Technology (NIST) announced in the Federal Register the availability of fiscal year 2001 funds for thirteen small grants programs. The purpose of this notice is to inform the public that under three of those programs, the Materials Science and Engineering Grants Program; the Physics Laboratory Grants Program; and the Chemical Science and Technology Laboratory Grants Program, priority will be given to proposals in the area of Nanotechnology, and a portion of the funding available for each of those programs will be allocated for awards in the area of Nanotechnology.

FOR FURTHER INFORMATION CONTACT: For the MSEL Grants Program, contact Dr. Stephen M. Hsu, National Institute of Standards and Technology, 100 Bureau Drive, Stop 8520, Building 223, Room A 265, Gaithersburg, Maryland 20899-8520, Tel: (301) 975-6120, E-mail: stephen.hsu@nist.gov.

For the Physics Laboratory Grant Program contact Ms. Anita Sweigert, National Institute of Standards and Technology, 100 Bureau Drive, Stop 8400, Gaithersburg, MD 20899-8400, Tel (301) 975-4200, E-Mail: anita.sweigert@nist.gov.

For the Chemical Science and Technology Laboratory Grant Program contact Dr. William F. Koch, National Institute of Standards and Technology, 100 Bureau Drive, Stop 8300, Gaithersburg, MD 20899-8300, Tel: (301) 975-8301, E-mail: william.koch@nist.gov.

SUPPLEMENTARY INFORMATION: On January 11, 2001, NIST published a document in the Federal Register announcing the availability of fiscal year 2001 funds for (1) Precision Measurement Grants; (2) Physics Laboratory (PL) 2001 Summer Undergraduate Research Fellowships (SURF); (3) Materials Science and Engineering Laboratory (MSEL) 2001 Summer Undergraduate Research Fellowships (SURF); (4) Manufacturing Engineering Laboratory (MEL) 2001 Summer Undergraduate Research Fellowships (SURF); (5) Information Technology Laboratory (ITL) 2001 Summer Undergraduate Research Fellowships (SURF); (6) Building and Fire Research Laboratory (BFRL); 2001 Summer Undergraduate Research Fellowships (SURF); (7) Electronics and Electrical Engineering (EEEL); 2001 Summer Undergraduate Research Fellowships (SURF); (8) Materials Science and Engineering Laboratory (MSEL) Grants Program; (9) Fire Research Grants Program; (10) Physics Laboratory (PL) Grants Program; (11) Chemical Science and Technology Laboratory (CSTL) grants Program; (12) Manufacturing Engineering Laboratory (MEL) Grants program; and (13) Electronics and Electrical Engineering Laboratory (EEEL) Grants Program (66 FR 2398, January 11, 2001). On January 24, 2001, NIST published a document in the Federal Register making minor corrections to the earlier publication (66 FR 7627, January 24, 2001). All information and requirements as published in the January 11, 2001 publication, as corrected by the January 24, 2001 publication, remain in effect.

NIST's fiscal year 2001 appropriation included funding for an initiative in the area of Nanotechnology, The initiative funds have now been allocated to the NIST laboratories that submitted successful proposals to the Acting NIST Director. Due to a combination of the timing of NIST's appropriation, the proposal review and selection process for distribution of the funding to the NIST laboratories, and a recent decision that financial assistance is an appropriate mechanism for carrying out the Nanotechnology programs selected, NIST now informs the public that under the MSEL Grants program, the PL Grants program, and the CSTL Grants program, priority will be given to proposals in the area of Nanotechnology, and a portion of the funding available for each of those programs will be allocated for awards in the area of Nanotechnology as described below. Applications submitted to these programs prior to publication of this notice in the area of Nanotechnology will be considered for the reserved funding and for the remaining funds announced in the January 11, 2001 notice, as described below.

MSEL Grants Program

Of the approximately $2,500,000 available in fiscal year 2001, approximately $300,000 will be allocated solely for funding awards in Nanotechnology in the area of Nanotechnology. The MSEL Grants Program may fund more than one award from this allocation. From the remaining $2,200,000, other highly rated proposals in the area of Nanotechnology may be funded.

Physics Laboratory Grants Program

Of the approximately $1,400,000 available in fiscal year 2001, approximately $210,000 will be allocated solely for funding awards in Quibit decoherence and moving quantum information over larger distances. The PL Grants Program anticipates funding one award from this allocation. From the remaining $1,190,000, other highly rated proposals in the area of Nanotechnology may be funded. Funding available for the PL Grants Program will remain at approximately $1,400,00 this fiscal year.

Chemical Science and Technology Laboratory Grants Program

Of the approximately $1,000,000 available in fiscal year 2001, approximately $150,000 will be allocated solely for funding awards in Nanotechnology in the areas of Molecular Synthesis and/or Scanning-Probe Characterization. The CSTL Grants Program anticipates funding one award from this allocation. From the remaining $850,000, other highly rates proposals in the area of Nanotechnology may be funded.

Dated: May 4, 2001.
Karen H. Brown,
Deputy Director.

[FR Doc. 01-11881 Filed 5-10-01; 8:45 am]

BILLING CODE 3510-13-M